DEPARTMENT OF COMMERCE

National Oceanic and Atmospheric Administration

15 CFR Part 908

Notice of Receipt and Request for Public Comment on Petition for Rulemaking Regarding Maintaining Records and Submitting Reports on Weather Modification Activities

AGENCY: Oceanic and Atmospheric Research, National Oceanic and Atmospheric Administration, Department of Commerce.

ACTION: Receipt of petition for rulemaking; request for comments.

SUMMARY: On March 12, 2024, the National Oceanic and Atmospheric Administration (“NOAA”) received a petition from the Environment, Energy & Natural Resources Center at the University of Houston Law Center, the Institute for Responsible Carbon Management, and a collection of environmental law professors and environmental policy experts (collectively “Petitioners”) to amend NOAA's reporting regulations under the Weather Modification Reporting Act of 1972. Through this notification, NOAA seeks comment on the topics contained in the petition, as well as any data or information that could be used in the Agency's determination whether to grant the petition. By seeking comment on whether to grant this petition, NOAA takes no position at this time regarding the merits of the suggested rulemaking or the assertions in the petition.

DATES: Comments must be received by November 19, 2024.

ADDRESSES: You may submit comments on this document, identified by NOAA-OAR-2024-0091, by Electronic Submission. Submit all electronic comments via the Federal e-Rulemaking Portal. Go to https://www.regulations.gov and enter NOAA-OAR-2024-0091 in the Search box. Click on the “Comment” icon, complete the required fields, and enter or attach your comments.

Comments sent by any other method, to any other address or individual, or received after the end of the comment period, may not be considered by NOAA. All comments received are a part of the public record and will generally be posted for public viewing on www.regulations.gov without change. All personal identifying information (e.g., name and address), confidential business information, or otherwise sensitive information submitted voluntarily by the sender will be publicly accessible. NOAA will accept anonymous comments (enter “N/A” in the required fields if you wish to remain anonymous).

An electronic copy of the petition is available in the docket on regulations.gov by searching NOAA-OAR-2024-0091.

FOR FURTHER INFORMATION CONTACT: Jessie Carman, 202-381-7037.

SUPPLEMENTARY INFORMATION:

Background

The Weather Modification Reporting Act of 1972, 15 U.S.C. 330 et seq. (Pub. L. 92-205), requires that all persons who “engage, or attempt to engage, in any weather modification activity in the United States” report such activities to the U.S. Secretary of Commerce “in such form and containing such information, as the Secretary may by rule prescribe.” 15 U.S.C. 330a; see also 15 CFR part 908.

The National Weather Modification Policy Act of 1976, 15 U.S.C. 330 note (Pub. L. 94-490), directed the Secretary to study “the state of scientific knowledge concerning weather modification, the present state of development of weather modification technology, the problems impeding effective implementation of weather modification technology, and other related matters.” 15 U.S.C. 330 note. It was the declared purpose of Congress “to develop a comprehensive and coordinated national weather modification policy and a national program of weather modification research and development[.]” Id.

The Administrative Procedure Act (“APA”), 5 U.S.C. 551 et seq., provides that “[e]ach agency shall give an interested person the right to petition for the issuance, amendment, or repeal of a rule.” 5 U.S.C. 553(e). On March 12, 2024, NOAA received a request from Petitioners to amend NOAA's reporting regulations under the Weather Modification Reporting Act of 1972 “to expand and clarify their application to [ ] private Solar Radiation Modification (SRM) activities.” The petition describes SRM as including, but not limited to, the injection of aerosol and aerosol precursors into the stratosphere or into marine stratocumulus clouds in efforts to cool Earth's surface by increasing Earth's albedo.

Request for Information

NOAA solicits public comment on the petition for rulemaking to amend NOAA's reporting regulations under the Weather Modification Reporting Act. NOAA is particularly interested in (1) how NOAA should update 15 CFR part 908 reporting requirements to account for solar radiation modification experiments, (2) what reporting requirements NOAA should include regarding potential and/or measured environmental impacts of weather modification experiments given the state of the science and current detection capabilities, (3) the spatial scale of weather modification experiments and their intended effects for which NOAA should request in submitted reports, and (4) whether, under existing statutory authorities, NOAA should pursue a broader regulatory strategy for solar radiation modification research and experimentation. NOAA will consider public comments received in determining whether to proceed with the petition's requested revisions. Upon determining whether to initiate the requested rulemaking, NOAA will publish in the Federal Register the Agency's notice of proposed rulemaking with a request for public comment.

Dated: July 30, 2024.
David Holst,
CFO/CAO for Oceanic and Atmospheric Research, National Oceanic and Atmospheric Administration.

Editorial Note: The Office of the Federal Register received this document on September 17, 2024.

[FR Doc. 2024-21567 Filed 9-19-24; 8:45 am]

BILLING CODE 3510-KD-P